ENVIRONMENTAL PROTECTION AGENCY

40 CFR Part 52

[EPA-R09-OAR-2011-0492; FRL- 9749-4]

Approval and Promulgation of Implementation Plans; California; Determinations of Attainment for the 1997 8-Hour Ozone Standard

AGENCY: Environmental Protection Agency (EPA).

ACTION: Withdrawal of direct final rule.

SUMMARY: Due to the receipt of an adverse comment, EPA is withdrawing the September 14, 2012, direct final rule that makes several determinations relating to certain 1997 8-hour ozone nonattainment areas in California. EPA will address the comment in a subsequent final action based upon the proposed rulemaking action, also published on September 14, 2012. EPA will not institute a second comment period on this action.

DATES: The direct final rule published at 77 FR 56775 on September 14, 2012, is withdrawn as of November 7, 2012.

FOR FURTHER INFORMATION CONTACT: John Ungvarsky, Air Planning Office, AIR-2, EPA Region IX, 75 Hawthorne Street, San Francisco, CA 94105-3901, telephone number (415) 972-3963, or email ungvarsky.john@epa.gov.

SUPPLEMENTARY INFORMATION: EPA is withdrawing the September 14, 2012 (77 FR 56775), direct final rule that makes several determinations relating to 1997 8-hour ozone nonattainment areas in California and thereby suspending certain attainment-related requirements for as long as these areas continue to meet the 1997 8-hour ozone national ambient air quality standard. The subject areas include Amador and Calaveras Counties, Chico, Kern County, Mariposa and Tuolumne Counties, Nevada County, Sutter County, and Ventura County. In the direct final rule, EPA stated that if adverse comments were received by October 15, 2012, the rule would be withdrawn and not take effect. On September 10, 2012, EPA received a comment, which it interprets as adverse and, therefore, EPA is withdrawing the direct final rule. EPA will address the comment in a subsequent final action based upon the proposed rulemaking action, also published on September 14, 2012 (77 FR 56797). EPA will not institute a second comment period on this action.

List of Subjects in 40 CFR Part 52

Environmental protection, Air pollution control, Incorporation by reference, Intergovernmental relations, Nitrogen dioxide, Ozone, Reporting and recordkeeping requirements, Volatile organic compounds.

Dated: October 29, 2012.
Jared Blumenfeld,
Regional Administrator, Region IX.

Accordingly, the amendment to 40 CFR 52.282 published in the Federal Register on September 14, 2012 (77 FR 56775) on page 56782 is withdrawn as of November 7, 2012.

[FR Doc. 2012-27054 Filed 11-6-12; 8:45 am]

BILLING CODE 6560-50-P